DEPARTMENT OF HOMELAND SECURITY

Coast Guard

33 CFR Part 117

[Docket No. USCG-2011-0291]

Drawbridge Operation Regulation; Atlantic Intracoastal Waterway, Albemarle and Chesapeake Canal, Chesapeake, VA

AGENCY: Coast Guard, DHS.

ACTION: Notice of temporary deviation from regulations.

SUMMARY: The Commander, Fifth Coast Guard District, has issued a temporary deviation from the regulations governing the operation of the SR170 Centerville Turnpike Bridge across the Atlantic Intracoastal Waterway, Albemarle and Chesapeake Canal, mile 15.2, at Chesapeake, VA. The deviation is necessary to facilitate urgent mechanical structural repairs to the swing span. Under this deviation, the drawbridge will be allowed to operate on a limited schedule for the extent of the effective period, specifically affecting four specific dates during the effective time-period: May 14, 2011; May 15, 2011; June 4, 2011; and June 5, 2011.

DATES: This deviation is effective from 8 a.m. on May 14, 2011 to 8 p.m. on June 5, 2011.

ADDRESSES: Documents mentioned in this preamble as being available in the docket USCG-2011-0291 and are available online by going to http://www.regulations.gov, inserting USCG-2011-0291 in the “Keyword” box, and then clicking “Search”. This material is also available for inspection or copying the Docket Management Facility (M-30), U.S. Department of Transportation, West Building Ground Floor, Room W12-140, 1200 New Jersey Avenue, SE., Washington, DC 20590, between 9 a.m. and 5 p.m., Monday through Friday, except Federal Holidays.

FOR FURTHER INFORMATION CONTACT: If you have questions on this rule, call or e-mail Mr. Waverly W. Gregory, Jr., Bridge Administrator, Fifth Coast Guard District; telephone (757) 398-6222, e-mail Waverly.W.Gregory@uscg.mil. If you have questions on reviewing the docket, call Renee V. Wright, Program Manager, Docket Operations, (202) 366-9826.

SUPPLEMENTARY INFORMATION: The City of Chesapeake, who owns and operates this swing-type bridge, has requested a temporary deviation from the current operating regulations set out in 33 CFR 117.997(i), to facilitate urgent mechanical and structural repairs to the swing span mechanism.

The deviation will not affect the current scheduled openings for weekdays, as laid out in 33 CFR 117.997(i). The deviation will only affect the scheduled openings on the following weekend dates: Saturday May 14, 2011; Sunday May 15, 2011; Saturday June 4, 2011; and Sunday June 5, 2011.

Under this temporary deviation, on the four specific dates listed above, the drawbridge will operate on a 4-hour opening schedule. This schedule is meant to facilitate urgent mechanical and structural repairs. Accordingly, on Saturday May 14, 2011, the drawbridge will open on signal at: 8 a.m., 12 p.m., 4 p.m., and 8 p.m. On Sunday May 15, 2011, the drawbridge will open on signal at: midnight, 4 a.m., 8 a.m., 12 p.m., 4 p.m., and 8 p.m. On Saturday June 4, 2011, the drawbridge will open on signal at: 8 a.m., 12 p.m., 4 p.m., and 8 p.m. And, on Sunday June 5, 2011, the drawbridge will open on signal at: midnight, 4 a.m., 8 a.m., 12 p.m., 4 p.m., and 8 p.m.

If all of the mechanical and structural work is completed on May 14-15, 2011, then the deviation will not be enforced for June 4-5, 2011. A notice will be released for mariners should the deviation be cancelled for June 4-5, 2011.

Other than the four specific dates listed in this section, the drawbridge will operate in accordance with the operating regulations set out in 33 CFR 117.997(i).

The SR170 Centerville Turnpike Bridge has a vertical clearance in the closed position to vessels of four feet above mean high water. Vessels may not transit under the bridge while it is in the closed position.

The Atlantic Intracoastal Waterway caters to a variety of vessels from tug and barge traffic to recreational vessels traveling from Florida to Maine. The Coast Guard has carefully coordinated the restrictions with commercial and recreational waterway users. Additionally, the Coast Guard will inform unexpected users of the waterway through our local and broadcast Notices to Mariners of the limited operating schedules for the bridge so that vessels can arrange their transits to minimize any impacts caused by the temporary deviation. The Atlantic Ocean is the alternate route for vessels and the bridge will be able to open in the event of an emergency.

In accordance with 33 CFR 117.35(e), the draw must return to its original operating schedule immediately at the end of the designated time period. This deviation from the operating regulations is authorized under 33 CFR 117.35.

Dated: April 28, 2011.
Waverly W. Gregory, Jr.,
Chief, Bridge Administration Branch, Fifth Coast Guard District.

[FR Doc. 2011-11546 Filed 5-10-11; 8:45 am]

BILLING CODE 9110-04-P